DEPARTMENT OF HOUSING AND URBAN DEVELOPMENT

[Docket No. FR-4922-N-14; HUD 2006-0177]

Privacy Act of 1974, as Amended; Establishment of New Systems of Records

AGENCY: Office of the Chief Information Officer, HUD.

ACTION: Notification of the establishment of new systems of records.

SUMMARY: Pursuant to the provisions of the Privacy Act of 1974 (5 U.S.C. 552a), as amended, the Department of Housing and Urban Development HUD is giving notice that it proposes to establish five new systems of records entitled: Transit Subsidy Program, HUD's Direct Distribution Center System, One Touch Student Response System, Training Information System (TRAI), and the Training Announcement, Nomination and Confirmation System (TANCS). The purpose of each of the systems of records is as follows: Records from the Transit Subsidy System are to be used to determine and verify the transit subsidy entitlement for each HUD employee. Information from HUD's Direct Distribution Center System is used to track undelivered or returned mail. This system contains the name, address, home and office telephone number of all HUD clients and staff requesting general publication information. Records from the One Touch Student Response System are used to track training information and test results of HUD employees enrolled in training courses. The Training Information System (TRAI) contains the name, address, office telephone number, and social security number of all HUD employees enrolled and approved for training courses. An annual summary of employees' training courses is produced from these records. Also, the cost of training courses is collected for budgetary and planning purposes. The names of all HUD employees selected for training, social security number, and training course title are contained in the Training Announcement, Nomination, and Confirmation System (TANCS). Records from the system are used to monitor internal opportunities for HUD staff.

DATES: Effective Date: This action will be effective without further notice July 19, 2006, unless comments are received on or before that date, which would result in a contrary determination.

Comments Due Date: July 19, 2006.

ADDRESSES: Interested persons are invited to submit comments regarding this notice to the Rules Docket Clerk, Office of General Counsel, U.S. Department of Housing and Urban Development, 451 Seventh Street, SW., Room 10276, Washington, DC 20410-0001. Communications should refer to the above docket number and title. Comments submitted by facsimile (FAX) will not be accepted. A copy of each communication submitted will be available for public inspection and copying between 8 a.m. and 5 p.m. weekdays at the above address.

FOR FURTHER INFORMATION CONTACT: Jeanette Smith, Departmental Privacy Act Office, telephone number (202) 708-2374. (This is not a toll-free number). A telecommunications device for hearing and speech-impaired persons (TTY) is available at 1-800-877-8389 (Federal Information Relay Services). (This is a toll-free number).

SUPPLEMENTARY INFORMATION: Title 5 U.S.C. 552a(e)(4) and (11) provide that the public be afforded a 30-day period in which to comment on the new records systems. The new systems report was submitted to the Office of Management and Budget (OMB), the Senate Committee on Homeland Security and Governmental Affairs, and the House Committee on Government Reform pursuant to paragraph 4c of Appendix 1 to OMB Circular No. A.130, “Federal Responsibilities for Maintaining Records About Individuals,” July 25, 1994 (59 FR 37914).

Authority: 5 U.S.C. 552a: 88 Stat. 1896; 342 U.S.C. 3535(d).

Dated: May 30, 2006.
Lisa Schlosser,
Chief Information Officer.

HUD/ADMIN/01

SYSTEM NAME:

Transit Subsidy System.

SYSTEM LOCATION:

HUD Headquarters (HQ), 451 Seventh Street, SW., Washington, DC 20410.

CATEGORIES OF INDIVIDUALS COVERED BY THE SYSTEM:

HUD employees who participate in transit subsidy program.

CATEGORIES OF RECORDS IN THE SYSTEM:

Applications for transit subsidies include employees' name, address, home and office telephone number, last four digits of social security number and cost of monthly transportation and subsidy entitlement.

AUTHORITY FOR MAINTENANCE OF THE SYSTEM:

Public Law 103-172 dated 12/2/93, Federal Employees Clean Air Incentives Act; GSA Bulletin FPMR D-227.

PURPOSES:

Information is collected to verify the amount of monthly commuting costs and to calculate employees' transit subsidy entitlement, which is determined by the distance between employees' residence and the local HUD office.

ROUTINE USES OF RECORDS MAINTAINED IN THE SYSTEM, INCLUDING CATEGORIES OF USERS AND THE PURPOSES OF SUCH USES:

Annual cost of commuting and transit subsidy entitlement is reported to the Department of Transportation as well as, the number of HUD employees enrolled in the program.

POLICIES AND PRACTICES FOR STORING, RETRIEVING, ACCESSING, RETAINING AND DISPOSING OF RECORDS IN THE SYSTEM:

Storage: Information is kept in files with controlled room access and is security protected.

Retrievability: Information is retrieved by employees' name.

Safeguards: Information is kept in files with controlled room access and is security protected.

Retention and Disposal: 2228.2, General Records Schedule, Item #7.

SYSTEM MANAGERS AND ADDRESS:

Division Director, Office of Management and Planning—Administrative Officer.

NOTIFICATION PROCEDURE:

Individuals seeking to determine whether information about themselves is contained in this system of records should address written inquiries to the particular HUD administrator or component listed in the “system manager” location above. Individuals should furnish full name, current address and telephone number.

RECORD ACCESS PROCEDURES:

For information, assistance, or inquiry about the existence of records, contact the Privacy Act Officer at the Department of Housing and Urban Development, 451 7th Street SW., Washington, DC. Written requests must include the full name, Social Security Number, date of birth, current address, and telephone number of the individual making the request. The procedures for requesting access to records appear in 24 CFR part 16.

CONTESTING RECORD PROCEDURES:

The rules for contesting the contents of records and appealing initial denials, by the individual concerned, appear in 24 CFR part 16. If additional information or assistance is needed in relation to contesting the contents of records, it may be obtained by contacting the Privacy Appeals Officer, Office of General Counsel, Department of Housing and Urban Development, 451 Seventh Street, SW., Washington, DC 20410.

RECORD SOURCE CATEGORIES:

Information in this system of records is obtained from individuals that participate in the Transit Subsidy Program.

EXEMPTIONS FROM CERTAIN PROVISIONS OF THE ACT:

None.

HUD/ADMIN/02

SYSTEM NAME:

HUD's Direct Distribution Center System.

SYSTEM LOCATION:

HUD HQ, 451 Seventh Street, SW., Washington, DC 20410, Room BS-111.

CATEGORIES OF INDIVIDUALS COVERED BY THE SYSTEM:

HUD Clients and Staff Personnel requesting general and publication information.

CATEGORIES OF RECORDS IN THE SYSTEM:

Categories include an electronic database of client names, address, home, and office telephone numbers for each request received.

AUTHORITY FOR MAINTENANCE OF THE SYSTEM:

24 CFR part 7.13.

PURPOSES:

Information collected is used for tracking purposes for undelivered or returned mail.

ROUTINE USES OR RECORDS MAINTAINED IN THE SYSTEM, INCLUDING CATEGORIES OF USERS AND THE PURPOSES OF SUCH USES:

None.

POLICIES AND PRACTICES FOR STORING, RETRIEVING, ACCESSING, RETAINING AND DISPOSING OF RECORDS IN THE SYSTEM:

Storage: Information is stored on an electronic database.

Retrievability: Limited to staff with access and authorization to database. Information is retrieved by client's name, address, home and office telephone number.

Safeguards: Database is limited to staff with access and authorization. Database is also password protected.

Retention and Disposal: Database information is kept for 3 years then archived.

SYSTEM MANAGERS AND ADDRESS:

Office of Administrative and Management Services, Chief, Mail and Distribution Branch.

NOTIFICATION PROCEDURES:

Individuals seeking to determine whether information about themselves is contained in this system of records should address written inquiries to the particular HUD administrator or component listed in the “system manager” location above. Individuals should furnish full name, current address and telephone number.

RECORD ACCESS PROCEDURES:

For information, assistance, or inquiry about the existence of records, contact the Privacy Act Officer at the Department of Housing and Urban Development, 451 Seventh Street SW., Washington, DC. Written requests must include the full name, Social Security Number, date of birth, current address, and telephone number of the individual making the request. The procedures for requesting access to records appear in 24 CFR part 16.

CONTESTING RECORD PROCEDURES:

The rules for contesting the contents of records and appealing initial denials, by the individual concerned, appear in 24 CFR part 16. If additional information or assistance is needed in relation to contesting the contents of records, it may be obtained by contacting the Privacy Appeals Officer, Office of General Counsel, Department of Housing and Urban Development, 451 Seventh Street, SW., Washington, DC 20410.

RECORD SOURCE CATEGORIES:

Information in this system of records is obtained from requests from HUD clients and staff.

EXEMPTIONS FROM CERTAIN PROVISIONS OF THE ACT:

None.

HUD/ADMIN/03

SYSTEM NAME:

One Touch Student Response System.

SYSTEM LOCATION:

HUD HQ, 451 Seventh Street, SW., Washington, DC 20410.

CATEGORIES OF INDIVIDUALS COVERED BY THE SYSTEM:

HUD employees enrolled in HUD approved training courses.

CATEGORIES OF RECORDS IN THE SYSTEM:

D Employees names, and SSNs.

AUTHORITY FOR MAINTENANCE OF THE SYSTEM:

U.S.C., Government Employees Training Act, Public Law 85-507, as amended, Executive Order 11348.

PURPOSES:

This system is routinely used to track training information and test results.

ROUTINE USES OF RECORDS MAINTAINED IN THE SYSTEM, INCLUDING CATEGORIES OF USERS AND THE PURPOSES OF SUCH USES:

Information may be shared with the Office of Personnel Management (OPM) for training data only.

POLICIES AND PRACTICES FOR STORING, RETRIEVING, ACCESSING, RETAINING AND DISPOSING OF RECORDS IN THE SYSTEM:

Storage: Information is stored in an electronic database

Retrievability: Information is retrieved by employees name and/or SSN.

Safeguards: Information access is limited to Multimedia staff members. System is password protected.

Retention and Disposal: Test results are purged weekly.

SYSTEM MANAGERS AND ADDRESS:

Office of Administrative and Management Services, Multimedia Branch.

NOTIFICATION PROCEDURES:

Individuals seeking to determine whether information about themselves is contained in this system of records should address written inquiries to the particular HUD administrator or component listed in the “system manager” location above. Individuals should furnish full name, current address and telephone number.

RECORD ACCESS PROCEDURES:

For information, assistance, or inquiry about the existence of records, contact the Privacy Act Officer at the Department of Housing and Urban Development, 451 Seventh Street SW., Washington, DC. Written requests must include the full name, Social Security Number, date of birth, current address, and telephone number of the individual making the request. The procedures for requesting access to records appear in 24 CFR part 16.

CONTESTING RECORD PROCEDURES:

The rules for contesting the contents of records and appealing initial denials, by the individual concerned, appear in 24 CFR part 16. If additional information or assistance is needed in relation to contesting the contents of records, it may be obtained by contacting the Privacy Appeals Officer, Office of General Counsel, Department of Housing and Urban Development, 451 Seventh Street, SW., Washington, DC 20410.

RECORD SOURCE CATEGORIES:

The information is obtained from HUD employees.

HUD/ADMIN/04

SYSTEM NAME:

Training Information System (TRAI).

SYSTEM LOCATION:

HUD Headquarters and National Finance Center (NFC).

CATEGORIES OF INDIVIDUALS COVERED BY THE SYSTEM:

HUD employees enrolled and approved for training courses.

CATEGORIES OF RECORDS IN THE SYSTEM:

Annual summary of employees' training courses. Information include employees' name, address, home and office telephone number and social security number.

AUTHORITY FOR MAINTENANCE OF THE SYSTEM:

Shared database with NFC, 5 U.S.C., Government Employees Training Act, Public Law 85-507, as amended Executive Order 11348.

PURPOSES:

Annual summary of employees training courses that have been approved and accepted. Cost of training courses is collected for budgetary and planning purposes.

ROUTINE USES OF RECORDS MAINTAINED IN THE SYSTEM, INCLUDING CATEGORIES OR USERS AND THE PURPOSES OF SUCH USES:

Information is shared with the National Finance Center (NFC) for budgetary tracking purposes.

POLICIES AND PRACTICES FOR STORING, RETRIEVING, ACCESSING, RETAINING AND DISPOSING OF RECORDS IN THE SYSTEM:

Storage: Information is stored on an electronic database.

Retrievability: Information is retrieved by employee name, SSN.

Safeguards: Access to information on database is limited to HUD Training Academy staff and is password protected.

Retention and Disposal: Routinely archived and disposed by the National Finance Center.

SYSTEM MANAGERS AND ADDRESS:

HUD Training Academy.

NOTIFICATION PROCEDURE:

For information, assistance, or inquiry about the existence of records, contact the Privacy Act Officer, at the appropriate location in accordance with 24 CFR part 16.

RECORD ACCESS PROCEDURES:

The procedures for requesting access to records appear at 24 CFR part 16.

CONTESTING RECORD PROCEDURES:

The procedures for requesting amendment or correction of records appear at 24 CFR part 16.

RECORD SOURCE CATEGORIES:

Information is obtained from HUD employees.

HUD/ADMIN/05

SYSTEM NAME:

Training Announcement, Nomination, and Confirmation System (TANCS).

SYSTEM LOCATION:

HUD Headquarters, 451 Seventh Street, SW., Washington, DC 20410.

CATEGORIES OF INDIVIDUALS COVERED BY THE SYSTEM:

HUD employees selected for internal training, sponsored by the HUD Training Academy (HTA).

CATEGORIES OF RECORDS IN THE SYSTEM:

Information retrieved includes, employees name, and SSN and training courses sponsored by HTA.

AUTHORITY FOR MAINTENANCE OF THE SYSTEM:

5 U.S.C., Government Employees Training Act, Public Law 85-507, as amended, Executive Order 11348.

PURPOSES:

Administration of internal training opportunities for HUD Staff. Information is summarized and becomes part of employees' record.

ROUTINE USES OF RECORDS MAINTAINED IN THE SYSTEM, INCLUDING CATEGORIES OF USERS AND THE PURPOSES OF SUCH USES:

Information may be shared with Office of Personnel Management (OPM) for training data only.

POLICIES AND PRACTICES FOR STORING, RETRIEVING, ACCESSING, RETAINING AND DISPOSING OF RECORDS IN THE SYTEM:

Storage: Information is stored on an electronic database.

Retrievability: Information is retrieved by HTA Staff only includes, names and SSN.

Safeguards: Database is password protected and limited to HTA staff only. IT/ADP security standards apply.

Retention and Disposal: Information is retain for 5 years; information prior to 1996 has been archived.

SYSTEM MANAGERS AND ADDRESS:

HUD Training Academy.

NOTIFICATION PROCEDURE:

Individuals seeking to determine whether information about themselves is contained in this system of records should address written inquiries to the particular HUD administrator or component listed in the “system manager” location above. Individuals should furnish full name, current address and telephone number.

RECORD ACCESS PROCEDURES:

For information, assistance, or inquiry about the existence of records, contact the Privacy Act Officer at the Department of Housing and Urban Development, 451 Seventh Street, SW., Washington, DC. Written requests must include the full name, Social Security Number, date of birth, current address, and telephone number of the individual making the request. The procedures for requesting access to records appear in 24 CFR part 16.

CONTESTING RECORD PROCEDURES:

The rules for contesting the contents of records and appealing initial denials, by the individual concerned, appear in 24 CFR part 16. If additional information or assistance is needed in relation to contesting the contents of records, it may be obtained by contacting the Privacy Appeals Officer, Office of General Counsel, Department of Housing and Urban Development, 451 Seventh Street, SW., Washington, DC 20410.

RECORD SOURCE CATEGORIES:

Information is obtained from HUD employees.

EXEMPTIONS FROM CERTAIN PROVISIONS OF THE ACT:

None.

[FR Doc. E6-9548 Filed 6-16-06; 8:45 am]

BILLING CODE 4210-67-P